FEDERAL MARITIME COMMISSION

[Docket No. 11-07]

DNB Exports LLC, and AFI Elektromekanikanik Ve Elektronik San. Tic. Ltd. Sti. v. Barsan Global Lojistiks Ve Gumruk Musavirligi A.S., Barsan International, Inc., and Impexia Inc.; Notice of Filing of Complaint and Assignment

Notice is given that a complaint has been filed with the Federal Maritime Commission (“Commission”) by DNB Exports LLC (“DNB”), and AFI Elektromekanikanik Ve Elektronik San. Tic. Ltd. Sti. (“AFI”), hereinafter “Complainants,” against Barsan Global Lojistiks Ve Gumruk Musavirligi A.S. (“BGL”), Barsan International, Inc. (“Barsan Int'l”), and Impexia Inc. (“Impexia”), hereinafter “Respondents”. Complainant AFI asserts that it is a corporation organized and existing pursuant to the laws of Turkey. Complainant DNB asserts that it is a corporation organized and existing pursuant to the laws of the State of Delaware. Complainant alleges that: Respondent BGL is a corporation organized and existing pursuant to the laws of Turkey; Respondent Barsan Int'l is BGL's subsidiary and is a corporation organized and existing pursuant to the laws of the State of New York; and Respondent Impexia is a corporation existing pursuant to the laws of the State of New Jersey.

Complainants allege that Respondents have violated Section 10(b)(13) of the Shipping Act, 46 U.S.C. 41103(a), by “knowingly disclosing, offering, soliciting and receiving information concerning the nature, kind, quantity, destination, shipper, consignee, and routing of property tendered or delivered to Barsan Int'l by DNB and/or AFI, by, without the consent of DNB and/or AFI, using that information to the detriment and disadvantage of DNB and/or AFI, by unlawfully disclosing that information to Impeixa (sic) as a competitor * * *.” Complainant alleges “[a]s a direct consequence of the unlawful conduct engaged in by Respondents, Complainants have suffered loss of clients, current and future revenues from those clients, not only loss amounts represented by shipments with Respondents, but also with other forwarders, and loss of reputation, all of which has caused and continues to cause Complainants monetary damages of at least $ 1.2 million, and other significant amounts * * *.”

Complainant asks the Commission to: compel respondents to answer the complaint; find the activities of Respondents in violation of the Shipping Act; order reparations be made to Complainants “in the amount as may be proven during the course of this proceeding, with interest as may be lawfully permitted by law, costs and attorneys' fees”; order that Respondents “cease and desist their activities in violation of the Shipping Act”; and revoke Respondent Barsan Int'l's NVOCC and freight forwarder license and prohibit “Respondents BGL, Barsan Int'l and its officers from doing NVOCC and freight forwarding business in the U.S.”

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by April 26, 2012 and the final decision of the Commission shall be issued by August 24, 2012.

Karen V. Gregory,
Secretary.

[FR Doc. 2011-10673 Filed 5-2-11; 8:45 am]

BILLING CODE 6730-01-P